DEPARTMENT OF ENERGY

Federal Energy Regulatory Commission

[Project No. 12790-001]

Pomperaug Hydro Project Andrew Peklo III; Notice of Site Visit and Technical Meeting

On January 18, 2012, Office of Energy Projects staff will hold a site visit and technical meeting for the proposed Pomperaug Hydro Project (FERC No. 12790-001). The purpose of the site visit is to view the proposed site and to describe the proposed project layout. The purpose of the technical meeting is to explain the exemption process and discuss and clarify issues and comments filed with the Commission in response to its November 3, 2011, notice of acceptance and ready for environmental analysis.

The site visit will begin at 1 p.m. EST. Attendees should park along Pomperaug Road in Woodbury, in the vicinity of the Pomperaug Dam, and meet by the doors under the sign at the mill. The technical meeting will begin at 6 p.m. EST and conclude no later than 9 p.m. The meeting will be held in the O and G Conference Room at the Woodbury Senior Center, 265 Main Street South, Woodbury, CT 06798. Attached is an agenda for the meeting. Anyone may attend either the site visit or the technical meeting. If you have questions about the site visit or meeting, please contact Steve Kartalia at (202) 502-6131, or via email at stephen.kartalia@ferc.gov.

Dated: December 15, 2011.
Kimberly D. Bose,
Secretary.

Technical Meeting Agenda

A. Introduction

1. Introduction of FERC staff

2. Meeting procedures and objectives

2. Description of the exemption process

3. Presentation of the proposed project

B. Discussion of Issues

C. Other Issues

D. Summary of Meeting

1. Issue Resolution

2. Follow-up Actions

[FR Doc. 2011-32737 Filed 12-21-11; 8:45 am]

BILLING CODE 6717-01-P